DEPARTMENT OF COMMERCE

International Trade Administration

[A-570-848]

Freshwater Crawfish Tail Meat From the People's Republic of China: Extension of Time Limit for Final Results of Antidumping Duty Administrative and New Shipper Reviews

AGENCY: Import Administration, International Trade Administration, Commerce.

DATES: Effective Date: January 9, 2007.

FOR FURTHER INFORMATION CONTACT: Erin C. Begnal or Scot Fullerton, AD/CVD Operations, Office 9, Import Administration, International Trade Administration, U.S. Department of Commerce, 14th Street and Constitution Avenue, NW., Washington, DC 20230; telephone: (202) 482-1442 or (202) 482-1386, respectively.

Background

On October 10, 2006, the Department of Commerce (“Department”) published the preliminary results of the administrative and new shipper reviews of the antidumping duty order on freshwater crawfish tail meat from the People's Republic of China for the period September 1, 2004, through August 31, 2005. See Freshwater Crawfish Tail Meat From the People's Republic of China: Preliminary Results and Partial Rescission of the 2004/2005 Administrative and New Shipper Reviews, 71 FR 59432 (October 10, 2006) (“Preliminary Results”). The final results of these reviews are currently due by February 7, 2007.

Extension of Time Limit for Final Results

Pursuant to section 751(a)(3)(A) of the Tariff Act of 1930, as amended (“the Act”), and section 351.213(h)(1) of the Department's regulations, the Department shall issue final results in an administrative review of an antidumping duty order within 120 days after the date on which the notice of preliminary results is published in the Federal Register. However, if the Department determines that it is not practicable to complete the review within the specified time period, section 751(a)(3)(A) of the Act allows the Department to extend this time period to 180 days.

The Department has determined that completion of the final results of the aligned administrative and new shipper reviews within the 120-day period is impracticable. The Department requires additional time to address the concerns of the interested parties as raised in their November 9, 2006, case briefs, and November 14, 2006, rebuttal briefs. Therefore, the Department is fully extending the time limit for completion of these final results to April 8, 2007, in accordance with section 751(a)(3)(A) of the Act. However, because April 8, 2007, falls on a Sunday, the final results will be due no later than, April 9, 2007, the next business day.

We are issuing and publishing this notice in accordance with sections 751(a)(1) and 777(i)(1) of the Act.

Dated: December 27, 2006.
Stephen J. Claeys,
Deputy Assistant Secretary for Import Administration.

[FR Doc. E7-44 Filed 1-8-07; 8:45 am]

BILLING CODE 3510-DS-P